NATIONAL CAPITAL PLANNING COMMISSION

Notice of Final Adoption and Effective Date

AGENCY: National Capital Planning Commission.

ACTION: Notice of final adoption and effective date.

SUMMARY: The National Capital Planning Commission (NCPC) has adopted revised Submission Guidelines related to tree preservation and replacement on federal development sites. Federal and non-federal agency applicants whose development proposals and plans are subject to statutory mandated Commission plan and project review must submit their proposals to the Commission following a process laid out in the Submission Guidelines. The adopted Submission Guidelines support the adopted revised Federal Environment Element of the Comprehensive Plan for the National Capital, Section G: Federal Elements which NCPC also adopted on November 5, 2020.

DATES AND TIME: The revised Submission Guidelines will become effective January 11, 2021.

ADDRESSES: The revised adopted Submission Guidelines are available online at: https://www.ncpc.gov/initiatives/treereplacement/.

FOR FURTHER INFORMATION CONTACT: Stephanie Free at (202) 482-7209 or info@ncpc.gov.

Authority: 40 U.S.C. 8721(e)(2).

Dated: November 5, 2020.
Anne R. Schuyler,
General Counsel.

[FR Doc. 2020-24971 Filed 11-10-20; 8:45 am]

BILLING CODE 7502-02-P